DEPARTMENT OF AGRICULTURE

Rural Business-Cooperative Service

Notice of Contract Proposal (NOCP) for Payments to Eligible Advanced Biofuel Producers

AGENCY: Rural Business-Cooperative Service, USDA.

ACTION: Notice to accept applications from previously excluded advanced biofuel producers and to modify the award methodology for remaining available Fiscal Year 2009 funds.

SUMMARY: The Agency published a document in the Federal Register of March 12, 2010 at 75 FR 11836 for the distribution of the remaining available Fiscal Year 2009 program funds under the Advanced Biofuel Payment Program. The March 12, 2010 Notice of Contract Proposal (NOCP) requested advanced biofuels producers determined eligible under the June 12, 2009, NOCP (74 FR 27998) to submit requests for additional payments in order to award the remaining available Fiscal Year 2009 program funds. This Notice opens an application window for certain applicants who were previously ineligible and adjusts the manner in which the Agency will allocate the remaining available Fiscal Year 2009 program funds to recipients.

DATES: Applications will be accepted from August 18, 2010 through September 17, 2010.

FOR FURTHER INFORMATION CONTACT: Requests for additional information should be directed to USDA, Rural Development-Energy Division, Program Branch, Attention: Diane Berger, Advanced Biofuel Payment Program, 1400 Independence Avenue, SW., Stop 3225, Washington, DC 20250-3225. Telephone: 202-260-1508.

SUPPLEMENTARY INFORMATION:

Administrative Procedure Act Statement

On March 12, 2010, the Agency published a Notice of Contract for Proposal (NOCP) that, in part, requested advanced biofuels producers determined eligible under the June 12, 2009 NOCP (74 FR 27998) to submit a request for additional payment for facilities listed on their application in order to award remaining available Fiscal Year 2009 program funds. Such requests and awards would be made according to the criteria specified in the June 12, 2009 NOCP. Since the March 12, 2010 NOCP was published, the Agency has sought, received, and reviewed comments from the public regarding the program's eligibility requirements in conjunction with the April 16, 2010 (75 FR 20085) publication of the proposed rule for this program. Based on a consideration of these comments, the Agency has determined that it is in the best interests of furthering the Administration's goal of increasing the production of advanced biofuels to broaden the Advanced Biofuel Payment Program applicability to include making payments for eligible advanced biofuels produced at non-rural biofuel facilities and at foreign-owned biofuel facilities located in a State. For the purposes of this Notice, the term “biofuel facility” includes biorefineries that produce advanced biofuels.

Through this Notice, the Agency intends to make such producers of advanced biofuels eligible for the remaining available Fiscal Year 2009 program funds. To accomplish this, the Agency is opening a new application window from August 18, 2010 through September 17, 2010 to accept applications for payment under the Advanced Biofuel Payment program for only advanced biofuels produced at non-rural and/or foreign-owned biofuel facilities located in a State. The Agency will process applications received for non-rural and/or foreign-owned biofuel facilities under the March 12, 2010 NOCP unless the applicant provides a new application under this Notice. All other eligibility criteria in the June 12, 2009 NOCP are still applicable.

Furthermore, in order to make supplemental payments from the remaining available Fiscal Year 2009 program funds for non-rural and foreign-owned biofuel facilities, the Agency will distribute funds according to the following procedures:

1. For producers who requested the supplemental payment under the March 12, 2010 NOCP who met the eligibility criteria in that NOCP, the Agency will make advanced Fiscal Year 2009 supplemental payments equal to 25 percent of what those producers would have received based on the payment rate established under the March 12, 2010 NOCP.

2. For applicants submitting applications pursuant to this Notice, applicants only have to provide actual production with regard to base and incremental production amounts. Applicants are not required to submit projected base and incremental production for Fiscal Year 2009.

3. The Agency will then recalculate the payment rate for the Fiscal Year 2009 supplement payments based on the production of all eligible applicants, including the production from non-rural biofuel facilities and foreign-owned biofuel facilities.

4. The Agency will recalculate the final Fiscal Year 2009 supplemental payment to all eligible producers based on the recalculated payment rate and the production of all eligible applicants, including the production from non-rural biofuel facilities and foreign-owned biofuel facilities.

5. For all producers who receive an advanced Fiscal Year 2009 supplement payment under paragraph 1, the Agency will deduct the payment amount from the producer's final Fiscal Year 2009 supplemental payment and make any other adjustments necessary to reconcile the producer's final Fiscal Year 2009 supplemental payment with the payment established under paragraph 4.

Thus, every eligible producer, including non-rural and foreign-owned biofuel facilities, will receive their share of the remaining available Fiscal Year 2009 program funds that they would have received had the March 12, 2010 NOCP allowed producers with non-rural biofuel facilities and foreign-owned biofuel facilities to apply.

Paperwork Reduction Act

In accordance with the Paperwork Reduction Act (PRA), the paperwork burden associated with this Notice has been approved by the Office of Management and Budget (OMB) under OMB Control Number 0570-0057. The PRA burden associated with the June 12, 2009 NOCP was approved by OMB, with an opportunity to comment on the burden associated with the program. Since the publication of the June 12, 2009 NOCP, the Agency has not received a sufficient number of qualified applications to allocate all of the Fiscal Year 2009 authorized funds. Therefore, the Agency is opening a new application window to accept additional applications for the remaining available Fiscal Year 2009 program funds. Producers of advanced biofuels seeking funding under this program have to submit applications that include specified information, certifications, and agreements. Applications and accompanying materials required under this Notice are approved under OMB Control Number 0570-0057.

Non-Discrimination Statement

USDA prohibits discrimination in all its programs and activities on the basis of race, color, national origin, age, disability, and where applicable, sex, marital status, familial status, parental status, religion, sexual orientation, genetic information, political beliefs, reprisal, or because all or part of an individual's income is derived from any public assistance programs. (Not all prohibited bases apply to all programs.) Persons with disabilities who require alternative means for communication of program information (braille, large print, audiotape, etc.) should contact USDA's TARGET Center at (202) 720-2600 (voice and TDD). To file a complaint of discrimination, write to USDA, Director, Office of Civil Rights, 1400 Independence Avenue, SW., Washington, DC, 20250-9410, or call (800) 795-3272 (voice) or (202) 720-6382 (TDD). USDA is an equal opportunity provider and employer.

Dated: August 12, 2010.
Judith A. Canales,
Administrator, Rural Business-Cooperative Service.

[FR Doc. 2010-20426 Filed 8-17-10; 8:45 am]

BILLING CODE 3410-XY-P